DEPARTMENT OF LABOR

Employment and Training Administration

[TA-W-64,093]

Seamless Sensations, Incorporated Including On-Site Leased Workers From American Pacific, Chester, SC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on October 20, 2008, applicable to workers of Seamless Sensations, Incorporated, Chester, South Carolina. The notice was published in the Federal Register on November 10, 2008 (73 FR 66676).

On its own motion, the Department reviewed the certification for workers of Seamless Sensations, Inc., Chester, South Carolina. The workers are engaged in the production of quilt comforters and blow pillows.

New information shows that workers leased from American Pacific were employed on-site at the Chester, South Carolina location of the subject firm. The Department has determined that these workers were sufficiently under the control of Seamless Sensations, Incorporated to be considered leased workers.

Based on these findings, the Department is amending this certification to include workers leased from American Pacific working on-site at the Chester, South Carolina location of the subject firm.

The intent of the Department's certification is to include all workers employed at Seamless Sensations, Incorporated, Chester, South Carolina who were adversely affected by increased imports of quilt comforters and blow pillows.

The amended notice applicable to TA-W-64,093 is hereby issued as follows:

All workers of Seamless Sensations, Incorporated, including on-site leased workers from American Pacific, Chester, South Carolina, who became totally or partially separated from employment on or after September 19, 2007 through October 20, 2010, are eligible to apply for adjustment assistance under Section 223 of the Trade Act of 1974, and are also eligible to apply for alternative trade adjustment assistance under Section 246 of the Trade Act of 1974.

Signed at Washington, DC, this 13th day of February 2009.
Elliott S. Kushner,
Certifying Officer, Division of Trade Adjustment Assistance.

[FR Doc. E9-4398 Filed 3-2-09; 8:45 am]

BILLING CODE 4510-FN-P